DEPARTMENT OF ENERGY

Federal Energy Regulatory Commission

[Docket No. CP03-332-000]

Destin Pipeline Company, L.L.C., Notice of Request Under Blanket Authorization

July 22, 2003.

Take notice that on July 14, 2003, Destin Pipeline Company, L.L.C.(Destin), 200 WestLake Park Boulevard, Houston, Texas 77079 filed in Docket No. CP03-332-000 a request pursuant to sections 157.205 and 157.208 of the Federal Energy Regulatory Commission's regulations (18 CFR sections 157.205 and 157.208) under the Natural Gas Act (NGA) for authorization to construct, own, and operate an additional compressor at Destin's Pascagoula Compressor Station in Jackson County, Mississippi, under Destin's blanket certificate issued in Docket Nos. CP96-657-000 and CP96-657-001, pursuant to section 7 of the NGA, all as more fully set forth in the application which is on file with the Commission and open for public inspection. This filing is available for review at the Commission or may be viewed on the Commission's Web site at http://www.ferc.gov using the “FERRIS” link. Enter the docket number excluding the last three digits in the docket number field to access the document. For assistance, please contact FERC Online Support at FERCOnlineSupport@ferc.gov or toll-free at (866) 208-3676, or for TTY, contact (202) 502-8659.

Destin states that it intends to install an additional compressor unit adjacent to the three existing compressor units at the Pascagoula Compressor Station. Destin asserts that the proposed modifications will occur on property currently owned by Destin. Destin further states that the additions proposed will increase operational flexibility and efficiency, provide flow assurance, and enhance reliability on the Destin System. Destin states that there will be no change in Destin's current daily design capacity or daily operating pressures.

Destin states that the total estimated cost for this proposed additional compressor project is approximately $11.6 million.

Any questions concerning this request may be directed to Bruce G. Reed, Director Regulatory Affairs, 200 WestLake Park Boulevard, Houston, Texas 77079 at (281) 366-5062.

Any person or the Commission's staff may, within 45 days after issuance of the instant notice by the Commission, file pursuant to Rule 214 of the Commission's Procedural Rules (18 CFR 385.214) a motion to intervene or notice of intervention and pursuant to section 157.205 of the regulations under the NGA (18 CFR 157.205), a protest to the request. If no protest is filed within the time allowed therefor, the proposed activity shall be deemed to be authorized effective the day after the time allowed for filing a protest. If a protest is filed and not withdrawn within 30 days after the allowed time for filing a protest, the instant request shall be treated as an application for authorization pursuant to section 7 of the NGA.

Comments, protests and interventions may be filed electronically via the Internet in lieu of paper. See 18 CFR 385.2001(a)(1)(iii) and the instructions on the Commission's Web site under the “e-Filing” link. The Commission strongly encourages electronic filings.

Magalie R. Salas,
Secretary

[FR Doc. 03-19229 Filed 7-28-03; 8:45 am]

BILLING CODE 6717-01-P